FEDERAL MARITIME COMMISSION

46 CFR Part 541

[Docket No. FMC-2022-0066]

RIN 3072-AC90

Demurrage and Detention Billing Requirements

AGENCY: Federal Maritime Commission.

ACTION: Final rule; announcement of effective date.

SUMMARY: The Federal Maritime Commission (FMC) received approval from the Office of Management and Budget (OMB) for an information collection request associated with the final rule for Demurrage and Detention Billing Requirements. This rule announces the effective date for the requirements concerning contents of demurrage and detention invoices. In the final rule published February 26, 2024, we stated we would publish a document in the Federal Register (FR) announcing the effective date of the collection-of-information related sections upon OMB approval. This rule establishes May 28, 2024, as the effective date of the relevant provisions.

DATES: The amendments adding 46 CFR 541.6 (instruction 2) and 541.99 (instruction 3), published on February 26, 2024 (89 FR 14330), are effective on May 28, 2024.

ADDRESSES: To view background documents or comments received, you may use the Federal eRulemaking Portal at www.regulations.gov under Docket No. FMC-2022-0066.

FOR FURTHER INFORMATION CONTACT: David Eng, Secretary; Phone: (202) 523-5725; Email: Secretary@fmc.gov.

SUPPLEMENTARY INFORMATION: On February 26, 2024, in accordance with the Ocean Shipping Reform Act of 2022, the Federal Maritime Commission published the final rule, “Demurrage and Detention Billing Requirements” that requires common carriers and marine terminal operators to include specific minimum information on demurrage and detention invoices, outlines certain detention and demurrage billing practices, and sets timeframes for insuring invoices, disputing charges with the billing party, and resolving disputes.

The final rule contained two provisions, 46 CFR 541.6 and 541.99, that were delayed indefinitely, pending information collection approval from OMB under the Paperwork Reduction Act of 1995, 44 U.S.C. 3501-3520. On April 16, 2024, OMB, Office of Information and Regulatory Affairs, approved the information collection requirements with OMB Control Number 3072-0073.¹ Accordingly, FMC announces that 46 CFR 541.6 and 541.99 are effective May 28, 2024.

¹ The notice of action is available at https://www.reginfo.gov/public/do/PRAViewICR?ref_nbr=202404-3072-002#.

List of Subjects in 46 CFR Part 541

Common carriers, Demurrage and detention, Exports, Imports, Marine terminal operators.

For the reasons set forth in the preamble, FMC amends 46 CFR part 541 as follows:

PART 541—DEMURRAGE AND DETENTION

1. The authority citation for part 541 continues to read as follows:

Authority: 5 U.S.C. 553; 46 U.S.C. 40101, 40102, 40307, 40501-40503, 41101-41106, 40901-40904, and 46105; and 46 CFR 515.23.

2. Revise § 541.99 to read as follows:

§ 541.99 OMB control number assigned pursuant to the Paperwork Reduction Act.

The Commission has received Office of Management and Budget approval for this collection of information pursuant to the Paperwork Reduction Act of 1995, as amended. The valid control number for this collection of information is 3072-0073.

Dated: May 9, 2024.
By the Commission.
David Eng,
Secretary.

[FR Doc. 2024-10515 Filed 5-13-24; 8:45 am]

BILLING CODE 6730-02-P